DEPARTMENT OF HOMELAND SECURITY

Federal Emergency Management Agency

[Docket ID FEMA-2020-0001]

Notice of Adjustment of Disaster Grant Amounts

AGENCY: Federal Emergency Management Agency, DHS.

ACTION: Notice.

SUMMARY: FEMA gives notice of an adjustment to the threshold for Small Project subgrants made to state, tribal, and local governments and private nonprofit facilities for disasters declared on or after October 1, 2020.

DATES: This adjustment applies to major disasters and emergencies declared on or after October 1, 2020.

FOR FURTHER INFORMATION CONTACT: Tod Wells, Recovery Directorate, Federal Emergency Management Agency, 500 C Street SW, Washington, DC 20472, (202) 646-3834.

SUPPLEMENTARY INFORMATION: The Robert T. Stafford Disaster Relief and Emergency Assistance Act, 42 U.S.C. 5121-5207, as amended by the Sandy Recovery Improvement Act, Public Law 113-2, provides that FEMA will annually adjust the threshold for assistance provided under section 422, Simplified Procedures, relating to the Public Assistance program, to reflect changes in the Consumer Price Index for All Urban Consumers published by the Department of Labor.

FEMA gives notice that $132,800 is the threshold for any Small Project subgrant made to state, tribal, and local governments or to the owner or operator of an eligible private nonprofit facility under section 422 of the Stafford Act for all major disasters or emergencies declared on or after October 1, 2020.

FEMA bases the adjustment on an increase in the Consumer Price Index for All Urban Consumers of 1.3 percent for the 12-month period that ended in August 2020. This is based on information released by the Bureau of Labor Statistics at the U.S. Department of Labor on September 11, 2020.

(Catalog of Federal Domestic Assistance No. 97.036, Disaster Grants—Public Assistance (Presidentially Declared Disasters).

Pete Gaynor,
Administrator, Federal Emergency Management Agency.

[FR Doc. 2020-24236 Filed 11-2-20; 8:45 am]

BILLING CODE 9111-23-P